DEPARTMENT OF COMMERCE

International Trade Administration

[A-201-802]

Gray Portland Cement and Clinker from Mexico: Notice of Amended Final Results of Antidumping Duty Administrative Reviews

AGENCY: Import Administration, International Trade Administration, Department of Commerce.

EFFECTIVE DATE: April 3, 2006

FOR FURTHER INFORMATION CONTACT: Jeffrey Frank or Minoo Hatten, AD/CVD Operations, Office 5, Import Administration, International Trade Administration, U.S. Department of Commerce, 14th Street and Constitution Avenue, NW., Washington, DC 20230; telephone: (202) 482-0090 or (202) 482-1690, respectively.

SUPPLEMENTARY INFORMATION: On August 30, 1990, the Department of Commerce (the Department) published the antidumping duty order on gray portland cement and clinker from Mexico (Mexican cement). See Antidumping Duty Order: Gray Portland Cement and Clinker From Mexico, 55 FR 35443. Since the antidumping duty order was issued, CEMEX, S.A. de C.V. (CEMEX), GCC Cemento, S.A. de C.V. (GCCC), and the domestic industry, the Southern Tier Cement Committee (STCC), have challenged aspects of the various administrative reviews and the sunset review the Department has conducted of the order on Mexican cement before North American Free Trade Agreement (NAFTA) panels. They have also challenged certain International Trade Commission (ITC) determinations before NAFTA panels.

On March 6, 2006, the Office of the United States Trade Representative, the United States Department of Commerce, and Secretaria de Economia of the Government of Mexico entered into an Agreement on Trade in Cement (Agreement). As part of the Agreement, the Department and all parties involved in the outstanding litigation have agreed to settle many of these disputes. Pursuant to this settlement of litigation, each complaining party has agreed to request termination of each outstanding challenge before a NAFTA panel listed below.

Review | Period | NAFTA Panel # | Federal Register Notice
6 | 95/96 | USA-MEX-98-1904-02 | 63 FR 12764 (3/16/98); as amended by
|  |  | 63 FR 24528 (5/4/98)
8 | 97/98 | USA-MEX 2000-1904-03 | 65 FR 13943 (3/15/00)
9 | 98/99 | USA-MEX-2001-1904-04 | 66 FR 14889 (3/14/01); as amended by
|  |  | 66 FR 24324 (5/14/01)
10 | 99/00 | USA-MEX-2002-1904-05 | 67 FR 12518 (3/19/02)
11 | 00/01 | USA-MEX-2003-1904-01 | 68 FR 1816 (1/14/03); as amended by
|  |  | 68 FR 7346 (2/13/03)
12 | 01/02 | USA-MEX-2003-1904-03 | 68 FR 54203 (9/16/03); as amended by
|  |  | 68 FR 60083 (10/21/03)
13 | 02/03 | USA-MEX-2004-1904-03 | 69 FR 77989 (12/29/04)
14 | 03/04 | USA-MEX-2006-1904-03 | 71 FR 2909 (1/18/06)

Every contested review period covered by these amended final results begins on August 1st and ends on July 31st of the following year.

According to the Agreement and as part of the settlement of litigation, each complaining party requested termination of each of the listed challenges before a NAFTA panel. The NAFTA Secretariat has terminated the reviews in accordance with the parties' consent. Having a final and conclusive resolution of these contested administrative reviews, the Department is amending the final results of the contested reviews and will instruct U.S. Customs and Border Protection (CBP) to liquidate entries covered by the contested reviews. The Agreement stipulates that any entries of cement produced by CEMEX or GCCC will be assessed antidumping duties equal to $.10 per metric ton. The Agreement also stipulates, pursuant to the settlement of litigation covering the fourteenth administrative review, that the Department will instruct CBP to revise the cash-deposit rate effective April 3, 2006, for entries of Mexican cement produced or exported by CEMEX or GCCC to $3.00 per metric ton.

Assessment of Duties

We are now amending the final results of these reviews of the antidumping duty order on Mexican cement to reflect the terms of the Agreement. Consequently, we determine that the per-unit amount to be assessed on all entries of Mexican cement produced by CEMEX or GCCC is $.10 per metric ton for the contested reviews.

Accordingly, the Department will instruct CBP to assess appropriate antidumping duties on the affected entries of the subject merchandise during the contested review periods. The Department will issue assessment instructions to CBP within 15 days of publication of this notice.

Cash-Deposit Requirements

As provided by section 751(a)(1) of the Tariff Act of 1930, as amended, and as stipulated in the Agreement with regard to the settlement of the fourteenth administrative review, the cash-deposit rate for all shipments of Mexican cement produced or exported by CEMEX and GCCC entered, or withdrawn from warehouse, for consumption on or after April 3, 2006, shall be $3.00 per metric ton. The deposit requirements shall remain in effect until further notice.

We are issuing and publishing this notice in accordance with sections 751(a)(1) and 777(i)(1) of the Tariff Act of 1930, as amended.

Dated: April 3, 2006.
David M. Spooner,
Assistant Secretary for Import Administration.

[FR Doc. E6-5116 Filed 4-6-06; 8:45 am]

BILLING CODE 3510-DS-S